DEPARTMENT OF THE INTERIOR

Geological Survey

Technology Transfer Act of 1986

AGENCY: U.S. Geological Survey, Interior.

ACTION: Notice of proposed Cooperative Research & Development Agreement (CRADA) Negotiations.

SUMMARY: The United States Geological Survey (USGS) is contemplating entering into a Cooperative Research and Development Agreement (CRADA) will MarketPoint, Inc. for the development of regionalized Resource Analysis and Economic Models based on various USGS energy data bases.

Inquiries; If any other parties are interested in similar activities with the USGS, please contact Donald Gautier, U.S. Geological Survey, Bldg. 15 McKelvey Bldg—MS 975., 345 Middlefield Rd., Menlo Park, CA 94025, telephone (650) 329-4909.

SUPPLEMENTARY INFORMATION: This notice is submitted to meet the USGS requirements stipulated in Survey Manual Chapter 500.20.

P. Patrick Leahy,
Associate Director for Geology, U.S. Geological Survey.

[FR Doc. 01-23573 Filed 9-20-01; 8:45 am]

BILLING CODE 4310-Y7-M